ENVIRONMENTAL PROTECTION AGENCY

[FRL-7936-6]

Announcement of the Board of Trustees for the National Environmental Education and Training Foundation, Inc.

SUMMARY: The National Environmental Education and Training Foundation was created by Section 10 of Public Law #101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following appointment to the National Environmental Education and Training Foundation, Inc. Board of Trustees. The appointee is J.L. Armstrong, National Manager, Diversity, Development—Community, Toyota Sales, USA, Inc. The appointee will join the current Board members which include:

• Braden Allenby, Vice President, Environment, Health and Safety, AT&T

• Richard Bartlett, (NEETF Chairman) Vice Chairman, Mary Kay Holding Corporation

• Dorothy Jacobson, Consultant

• Karen Bates Kress, President, KBK Consulting, Inc.

• Dorothy McSweeny, (NEETF Vice Chair), Chair, DC Commission on the Arts and Humanities

• Honorable William Sessions, former Director of the Federal Bureau of Investigation.

Additional Considerations: Great care has been taken to assure that this new appointee not only has the highest degree of expertise and commitment, but also brings to the Board diverse points of view relating to environmental education and training. This appointment shall be for two consecutive four year terms.

FOR FURTHER INFORMATION CONTACT: C. Michael Baker, (202) 564-0446, Acting Director, Office of Environmental Education, Office of Public Affairs (1704A) U.S. EPA 1200 Pennsylvania Ave., NW., Washington, DC 20460.

Dated: July 6, 2005.
Stephen L. Johnson,
Administrator.

BIO of New Member

J. L. Armstrong, National Manager, Diversity Development—Community, Toyota Motor Sales, U.S.A., Inc.

J.L. Armstrong is national manager diversity development, community for Toyota Motor Sales (TMS), U.S.A., Inc.

In support of Toyota's 21st Century Diversity Strategy, he has corporate liaison responsibility for minority advertising and marketing promotions, supplier diversity, community relations, and field operations. He is charged with developing a strategic diversity plan and is responsible for monitoring, augmenting, tracking, and supporting those processes that result in the organization's ability to sustain a competitive advantage by leveraging diversity.

Armstrong began his career with Toyota in 1992 as merchandising manager and was responsible for developing and implementing marketing programs targeting special markets based upon ethnicity, gender, and educational background. Armstrong developed and implemented sports, motorsports, media merchandising, auto show, and promotional clothing/specialty merchandising marketing programs.

In 1998 he was appointed supplier development manager and promoted to national manager supplier development January 2002. Armstrong developed the Supplier Development Department at TMS, which included developing an electronic supplier database accessible to all TMS associates in the interest of increasing the utilization of minority and woman-owned businesses. He developed a Second Tier Supplier Program to ensure that TMS majority-owned suppliers utilize minority and woman-owned businesses, and developed metrics and quarterly reporting systems to ensure that TMS is able to monitor its spending with minority and woman-owned business enterprises. Armstrong was instrumental in taking TMS from $44 million in minority/woman-owned business procurement spend in 1998 to over $83 million in 2001.

Prior to Toyota, Armstrong worked as director of business affairs for Universal Television, MCA, Inc., negotiating deals for the services of writers, directors, and producers in connection with television development and production.

Armstrong graduated with a Bachelor of Science degree in business from Indiana University in Bloomington, Ind. He is an ordained minister with the African Methodist Episcopal Church, and serves on the ministerial staff of Rev. Dr. Cecil Murray at First AME Church, Los Angeles, Calif.

Armstrong is past Vice Chair External Affairs of the Southern California Regional Purchasing Council board of directors, and served on the senior corporate executive advisory board of the United States Hispanic Chamber of Commerce in Washington, DC.

Armstrong resides in West Los Angeles, Calif.

[FR Doc. 05-13697 Filed 7-11-05; 8:45 am]

BILLING CODE 6560-50-P